DEPARTMENT OF HOMELAND SECURITY

Coast Guard

33 CFR Part 165

[Docket No. USCG-2017-0387]

Safety Zones; Annual Events in the Captain of the Port Buffalo Zone—July Fireworks

AGENCY: Coast Guard, DHS.

ACTION: Notice of enforcement of regulation.

SUMMARY: The Coast Guard will enforce certain safety zones located in federal regulations for recurring marine events. This action is necessary and intended for the safety of life and property on navigable waters during this event. During each enforcement period, no person or vessel may enter the respective safety zone without the permission of the Captain of the Port Buffalo.

DATES: The regulations in 33 CFR 165.939(a)(16) will be enforced on July 2, 2017, from 9:45 p.m. to 11:15 p.m.; The regulations in 33 CFR 165.939(a)(14) will be enforced on July 3, 2017 from 9:45 p.m. to 11:00 p.m.; The regulations in 33 CFR 165.939(a)(18) will be enforced on July 4, 2017 from 9:25 p.m. to 10:15 p.m.; The regulations in 33 CFR 165.939(a)(19) will be enforced on July 23, 2017 from 9:00 p.m. to 10:30 p.m.; The regulations in 33 CFR 165.939(a)(3) will be enforced on July 8, 2017 and July 9, 2017 from 9:30 p.m. to 10:45 p.m.; The regulations in 33 CFR 165.939(a)(1) will be enforced on July 4, 2017 from 8:45 p.m. to 10:45 p.m.; The regulations in 33 CFR 165.939(a)(13) will be enforced on July 3, 2017 from 8:45 p.m. to 9:45 p.m.; The regulations in 33 CFR 165.939(a)(17) will be enforced on July 3, 2017 from 9:30 p.m. to 11:00 p.m.

FOR FURTHER INFORMATION CONTACT: If you have questions about this notice of enforcement, call or email LT Michael Collet, Chief of Waterways Management, Coast Guard Sector Buffalo, telephone 716-843-9322, email D09-SMB-SECBuffalo-WWM@uscg.mil.

SUPPLEMENTARY INFORMATION: The Coast Guard will enforce the Safety Zones; Annual Events in the Captain of the Port Buffalo Zone listed in 33 CFR 165.939 for the following events:

(1) A Salute to our Heroes, Lake Ontario, Hamlin, NY; The safety zone listed in 33 CFR 165.939(a)(16) will be enforced from 9:45 p.m. to 11:15 p.m. on July 2, 2017.

(2) Village Fireworks, Sodus Point, NY; The safety zone listed in 33 CFR 165.939(a)(14) will be enforced from 9:45 p.m. to 11:00 p.m. on July 3, 2017.

(3) North Tonawanda Fireworks, North Tonawanda, NY; The safety zone listed in 33 CFR 165.939(a)(18) will be enforced from 9:25 p.m. to 10:15 p.m. on July 4, 2017.

(4) Tonawanda's Canal Fest Fireworks, Tonawanda, NY; The safety zone listed in 33 CFR 165.939(a)(19) will be enforced from 9:00 p.m. to 10:30 p.m. on July 23, 2017.

(5) French Festival Fireworks, Cape Vincent, NY; The safety zone listed in 33 CFR 165.939(a)(3) will be enforced from 9:30 p.m. to 10:45 p.m. on both July 8, 2017 and July 9, 2017.

(6) Boldt Castle 4th of July Fireworks, Heart Island, NY; The safety zone listed in 33 CFR 165.939(a)(1) will be enforced from 8:45 p.m. to 10:45 p.m. on July 4, 2017.

(7) Tom Graves Memorial Fireworks, Port Bay, NY; The safety zone listed in 33 CFR 165.939(a)(13) will be enforced from 9:45 p.m. to 10:45 p.m. on July 3, 2017 within a 420-foot radius of position 43°17′54″ N. and 076°49′51″ W.

(8) Olcott Fireworks, Olcott, NY; The safety zone listed in 33 CFR 165.939(a)(17) will be enforced from 9:30 p.m. to 11:00 p.m. on July 3, 2017.

Pursuant to 33 CFR 165.23, entry into, transiting, or anchoring within the safety zone during an enforcement period is prohibited unless authorized by the Captain of the Port Buffalo or his designated representative. Those seeking permission to enter the safety zone may request permission from the Captain of Port Buffalo via channel 16, VHF-FM. Vessels and persons granted permission to enter the safety zone shall obey the directions of the Captain of the Port Buffalo or his designated representative. While within a safety zone, all vessels shall operate at the minimum speed necessary to maintain a safe course.

This notice of enforcement is issued under authority of 33 CFR 165.939 and 5 U.S.C. 552(a). In addition to this notice of enforcement in the Federal Register, the Coast Guard will provide the maritime community with advance notification of this enforcement period via Broadcast Notice to Mariners or Local Notice to Mariners. If the Captain of the Port Buffalo determines that the safety zone need not be enforced for the full duration stated in this notice he or she may use a Broadcast Notice to Mariners to grant general permission to enter the respective safety zone.

Dated: June 12, 2017.
J.S. Dufresne,
Captain, U.S. Coast Guard, Captain of the Port Buffalo.

[FR Doc. 2017-12547 Filed 6-15-17; 8:45 am]

BILLING CODE 9110-04-P